DEPARTMENT OF ENERGY

Federal Energy Regulatory Commission

[Docket Nos. RP00-331-004, RP01-23-006 and RP03-176-002]

Algonquin Gas Transmission Company; Notice of Compliance Filing

October 7, 2003.

Take notice that on August 12, 2003, Algonquin Gas Transmission Company (Algonquin) tendered for filing as part of its FERC Gas Tariff, Fourth Revised Volume No. 1, the revised tariff sheets listed in Appendices A and B of the filing.

Algonquin states that the purpose of this filing is to comply with the Commission's July 23, 2003 “Order on Rehearing and Compliance Filings” issued in Algonquin's Order No. 637 proceeding in the captioned dockets.

Algonquin states that copies of its filing have been mailed to all affected customers and interested state commissions, as well as to all parties on the official service lists.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the (e-Filing) link.

Protest Date: October 14, 2003.

Linda Mitry,
Acting Secretary.

[FR Doc. 03-26060 Filed 10-14-03; 8:45 am]

BILLING CODE 6717-01-P